DEPARTMENT OF COMMERCE

National Oceanic and Atmospheric Administration

RIN 0648-XA484

Endangered Species; Permit No. 16439

AGENCY: National Marine Fisheries Service (NMFS), National Oceanic and Atmospheric Administration (NOAA), Commerce.

ACTION: Notice; receipt of application.

SUMMARY: Notice is hereby given that the New York State Department of Environmental Conservation, 21 South Putt Corners Rd., New Paltz, NY 12561 [Responsible Party: Kathryn Hattala] has applied in due form to take shortnose sturgeon (Acipenser brevirostrum) for purposes of scientific research.

DATES: Written, telefaxed, or e-mail comments must be received on or before July 11, 2011.

ADDRESSES: The application and related documents are available for review by selecting “Records Open for Public Comment” from the Features box on the Applications and Permits for Protected Species (APPS) home page, https://apps.nmfs.noaa.gov/, and then selecting File No. 16439 from the list of available applications.

These documents are available upon written request or by appointment in the following offices:

• Permits, Conservation and Education Division, Office of Protected Resources, NMFS, 1315 East-West Highway, Room 13705, Silver Spring, MD 20910; phone (301) 713-2289; fax (301) 713-0376; and

• Northeast Region, NMFS, 55 Great Republic Drive, Gloucester, MA 01930; phone (978) 281-9328; fax (978) 281-9394.

Written comments on this application should be submitted to the Chief, Permits, Conservation and Education Division.

• By e-mail to NMFS.Pr1Comments@noaa.gov (include the File No. in the subject line)

• By facsimile to (301) 713-0376, or

• At the address listed above.

Those individuals requesting a public hearing should submit a written request to the Chief, Permits, Conservation and Education Division at the address listed above. The request should set forth the specific reasons why a hearing on this application would be appropriate.

FOR FURTHER INFORMATION CONTACT: Malcolm Mohead or Colette Cairns, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes a five-year scientific research permit characterizing the habitat use, population abundance, reproduction, juvenile recruitment, age and growth, temporal and spatial distribution, diet selectivity, and contaminant load of shortnose sturgeon captured from the Hudson River Estuary from New York Harbor to Troy Dam. Anchored and drift gill nets and trawl nets would be used to capture up to 240 and 2,340 shortnose sturgeon in year one through three and year four and five, respectively. Other research activities would include: measuring, weighing; tagging unmarked individuals with passive integrated transponder tags, and dart tags; and genetic tissue sampling. A first subset of fish would be anesthetized and tagged with acoustic transmitters; a second subset would have fin rays sampled for ageing; and a third subset of fish would be gastrically lavaged for diet analysis, as well as have blood samples taken for contaminant testing. A total of nine unintended mortalities are requested over the life of the permit.

Dated: June 3, 2011.
P. Michael Payne,
Chief, Permits, Conservation and Education Division, Office of Protected Resources, National Marine Fisheries Service.

[FR Doc. 2011-14333 Filed 6-8-11; 8:45 am]

BILLING CODE 3510-22-P